DEPARTMENT OF THE TREASURY

Submission for OMB Review; Comment Request

June 15, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 24, 2006 to be assured of consideration.

Internal Revenue Service (IRS)

OMB Number: 1545-0162.

Type of Review: Revision.

Title: Credit for Federal Tax Paid on Fuels.

Form: Form 4136.

Description: Internal Revenue Code section 34 allows a credit for Federal excise tax for certain fuel uses. This form is used to figure the amount of the income tax credit. The data is used to verify the validity of the claim for the type of nontaxable or exempt use.

Respondents: Individuals or households; Business or other for-profit.

Estimated Total Burden Hours: 9,822,578 hours.

OMB Number: 1545-1569.

Type of Review: Revision.

Title: Welfare-to-Work Credit.

Form: Form 8861.

Description: Section 51A of the Internal Revenue code allows employers an income tax credit of 35% of the first $10,000 of first-year wages and 50% of the first $10,000 of second-year wages paid to long-term family assistance recipients. The credit is part of the general business credit.

Respondents: Individuals or households; Business or other for-profit.

Estimated Total Burden Hours: 1,769 hours.

OMB Number: 1545-1983.

Type of Review: Extension.

Title: Qualified Railroad Track Maintenance Credit.

Form: Form 8900.

Description: Form 8900, Qualified Railroad Track Maintenance Credit, was developed to carry out the provisions of new Code section 45G. This new section was added by section 245 of the American Jobs Creation Act of 2004 (Pub. L. 108-357). The new form provides a means for the eligible taxpayers to compute the amount of credit.

Respondents: Business or other for-profit;

Estimated Total Burden Hours: 2,684 hours.

OMB Number: 1545-1825.

Type of Review: Extension.

Title: Improving the Accuracy of EITC Prepared Returns.

Form: Form 13388.

Description: This postcard will be sent to tax preparers that submitted a mixture of paper and electronic returns for their clients. The postcard provides these professionals an opportunity to acquire additional information about the EITC. It is part of a brochure to encourage 100% filing of EITC returns.

Respondents: Business or other for-profit; Farms.

Estimated Total Burden Hours: 150 hours.

OMB Number: 1545-1999.

Type of Review: Extension.

Title: Volunteer Return Preparation Program Hurricane Katrina Interview and Intake Sheet.

Form: Form 13614K.

Description: The complete form is used by screeners, preparers, or others involved in the return preparation process to more accurately complete tax returns of Katrina impacted taxpayers having low to moderate incomes. The persons need assistance having their returns prepared so they can fully comply with the law. The form can also be used to assist the taxpayer after their appointment.

Respondents: Individuals or households; Business or other for-profit; Not-for-profit institutions; Federal Government; State, Local or Tribal Government.

Estimated Total Burden Hours: 105,605 hours.

OMB Number: 1545-1998.

Type of Review: Extension.

Title: Alternative Motor Vehicle Credit.

Form: Form 8910.

Description: Taxpayers will file Form 8910 to claim the credit for certain alternative motor vehicles placed in service after 2005.

Respondents: Individuals or households; Business or other for-profit; Not-for-profit institutions; Farms; Federal Government; State, Local or Tribal Government.

Estimated Total Burden Hours: 65,861 hours.

OMB Number: 1545-1060.

Type of Review: Revision.

Title: Application for Withholding for Dispositions by Foreign Persons of U.S. Real Property Interests.

Form: Form 8288-B.

Description: Form 8288-B is used to apply for a withholding certificate from IRS to reduce or eliminate the withholding required by section 1445.

Respondents: Businesses or other for-profit institutions, Individuals or households.

Estimated Total Burden Hours: 29,256 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Robert Dahl,
Treasury PRA Clearance Officer.

[FR Doc. E6-9855 Filed 6-21-06; 8:45 am]

BILLING CODE 4830-01-P